DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. chapter 35). To request a copy of the clearance requests submitted to OMB for review, call the HRSA Reports Clearance Office on (301) 443-1129.

The following request has been submitted to the Office of Management and Budget for review under the Paperwork Reduction Act of 1995:

Proposed Project: Data Collection Tool for the Black Lung Clinics Program: In Use Without Approval

The Bureau of Primary Health Care (BPHC), Health Resources and Services Administration (HRSA), conducts an annual data collection of user information for the Black Lung Clinics Program. The purpose of the Black Lung Clinics Program is to improve the health status of coal workers by providing services to minimize the effects of respiratory and pulmonary impairments of coal miners. Grantees provide specific diagnostic and treatment procedures required in the management of problems associated with black lung disease which improve the quality of life of miners and reduce economic costs associated with morbidity and mortality arising from pulmonary diseases. The purpose of collecting these data is to provide HRSA with information on how well each grantee is meeting the needs of active and retired miners in the funded communities.

Data from the annual report will provide quantitative information about the programs, specifically: (a) The characteristics of the patients they serve (gender, age, disability level, occupation type), (b) the characteristics of services provided (medical, non-medical, or counseling), and (c) number of patients served and visits conducted (encounters). This assessment will provide data useful to the program and will enable HRSA to provide data required by Congress under the Government Performance and Results Act of 1993. It will also ensure that the organizations funded have demonstrated a need for services in their communities and that funds are being effectively used to provide services to meet those needs.

The estimated burden is as follows:

Form name | Number of respondents | Responses per respondent | Total responses | Hours per response | Total burden hours
Database | 15 | 1 | 15 | 10 | 150

Written comments and recommendations concerning the proposed information collection should be sent within 30 days of this notice to: Desk Officer, Health Resources and Services Administration, Human Resources and Housing Branch, Office of Management and Budget, New Executive Office Building, Room 10235, Washington, DC 20503.

Dated: June 14, 2004.
Tina M. Cheatham,
Director, Division of Policy Review and Coordination.

[FR Doc. 04-14079 Filed 6-21-04; 8:45 am]

BILLING CODE 4165-15-P